ENVIRONMENTAL PROTECTION AGENCY

[FRL-9944-39-OA]

Applicability Determination Index (ADI) Data System Recent Posting: Agency Applicability Determinations, Alternative Monitoring Decisions, and Regulatory Interpretations Pertaining to Standards of Performance for New Stationary Sources, National Emission Standards for Hazardous Air Pollutants, and the Stratospheric Ozone Protection Program

AGENCY: Environmental Protection Agency (EPA).

ACTION: Notice of availability.

SUMMARY: This notice announces applicability determinations, alternative monitoring decisions, and regulatory interpretations that the Environmental Protection Agency (EPA) has made under the New Source Performance Standards (NSPS); the National Emission Standards for Hazardous Air Pollutants (NESHAP); and/or the Stratospheric Ozone Protection Program.

FOR FURTHER INFORMATION CONTACT: An electronic copy of each complete document posted on the Applicability Determination Index (ADI) data system is available on the Internet through the Resources and Guidance Documents for Compliance Assistance page of the Clean Air Act Compliance Monitoring Web site under “Air” at: https://www2.epa.gov/compliance/resources-and-guidance-documents-compliance-assistance. The letters and memoranda on the ADI may be located by date, office of issuance, subpart, citation, control number, or by string word searches. For questions about the ADI or this notice, contact Maria Malave at EPA by phone at: (202) 564-7027, or by email at: malave.maria@epa.gov. For technical questions about individual applicability determinations, monitoring decisions or regulatory interpretations, refer to the contact person identified in the individual documents, or in the absence of a contact person, refer to the author of the document.

SUPPLEMENTARY INFORMATION:

Background

The General Provisions of the NSPS in 40 Code of Federal Regulations (CFR) part 60 and the General Provisions of the NESHAP in 40 CFR part 61 provide that a source owner or operator may request a determination of whether certain intended actions constitute the commencement of construction, reconstruction, or modification. EPA's written responses to these inquiries are commonly referred to as applicability determinations. See 40 CFR 60.5 and 61.06. Although the NESHAP part 63 regulations [which include Maximum Achievable Control Technology (MACT) standards and/or Generally Available Control Technology (GACT) standards] and Section 111(d) of the Clean Air Act (CAA) contain no specific regulatory provision providing that sources may request applicability determinations, EPA also responds to written inquiries regarding applicability for the part 63 and Section 111(d) programs. The NSPS and NESHAP also allow sources to seek permission to use monitoring or recordkeeping that is different from the promulgated requirements. See 40 CFR 60.13(i), 61.14(g), 63.8(b)(1), 63.8(f), and 63.10(f). EPA's written responses to these inquiries are commonly referred to as alternative monitoring decisions. Furthermore, EPA responds to written inquiries about the broad range of NSPS and NESHAP regulatory requirements as they pertain to a whole source category. These inquiries may pertain, for example, to the type of sources to which the regulation applies, or to the testing, monitoring, recordkeeping, or reporting requirements contained in the regulation. EPA's written responses to these inquiries are commonly referred to as regulatory interpretations.

EPA currently compiles EPA-issued NSPS and NESHAP applicability determinations, alternative monitoring decisions, and regulatory interpretations, and posts them to the ADI on a regular basis. In addition, the ADI contains EPA-issued responses to requests pursuant to the stratospheric ozone regulations, contained in 40 CFR part 82. The ADI is a data system on the Internet with over three thousand EPA letters and memoranda pertaining to the applicability, monitoring, recordkeeping, and reporting requirements of the NSPS, NESHAP, and stratospheric ozone regulations. Users can search for letters and memoranda by date, office of issuance, subpart, citation, control number, or by string word searches.

Today's notice comprises a summary of 66 such documents added to the ADI on March 22, 2016. This notice lists the subject and header of each letter and memorandum, as well as a brief abstract of the letter or memorandum. Complete copies of these documents may be obtained from the ADI on the Internet through the Resources and Guidance Documents for Compliance Assistance page of the Clean Air Act Compliance Monitoring Web site under “Air” at: https://www2.epa.gov/compliance/resources-and-guidance-documents-compliance-assistance.

Summary of Headers and Abstracts

The following table identifies the control number for each document posted on the ADI data system on March 22, 2016; the applicable category; the section(s) and/or subpart(s) of 40 CFR part 60, 61, or 63 (as applicable) addressed in the document; and the title of the document, which provides a brief description of the subject matter.

We have also included an abstract of each document identified with its control number after the table. These abstracts are provided solely to alert the public to possible items of interest and are not intended as substitutes for the full text of the documents. This notice does not change the status of any document with respect to whether it is “of nationwide scope or effect” for purposes of CAA section 307(b)(1) For example, this notice does not convert an applicability determination for a particular source into a nationwide rule. Neither does it purport to make a previously non-binding document binding.

ADI Determinations Uploaded on March 22, 2016
Control No. | Categories | Subparts | Title
1500021 | NSPS | J | Change to Alternative Sulfur Monitoring Plan for Flare System.
1500022 | NSPS | J | Alternative to Hydrogen Sulfide Monitoring for Flare System.
1500023 | NSPS | EEEE | Applicability Determination for a Rural Institutional Waste Incinerator.
1500024 | NSPS | DD | Regulatory Interpretation for Grain Elevators with Expanded Capacity.
1500025 | NSPS | AAAA | Applicability Determination for a Small Municipal Waste Combustor.
1500026 | NSPS | Y | NSPS Source Test Plan Approval.
1500027 | NSPS | A, DD | Performance Test Waivers for New Design and Identical Units at Grain Elevators.
1500028 | NSPS | A, JJJJ | Test Waiver for Identical Biogas-fueled Generators.
1500029 | NSPS | A, JJJJ | 30-Day Advance Test Notice Waiver for Generators.
1500030 | NSPS | CCCC, EEEE | Applicability Determination for Incinerator Burning MSW or RDF.
1500031 | NSPS | Dc | Applicability Determination for Boiler De-rating.
1500033 | NSPS | KKKK | Request for Performance Test Waiver at Combustion Turbine.
1500034 | NSPS | Ec | Alternative Monitoring of Waste Combusted.
1500035 | NSPS | CCCC | Applicability Determination for Incinerator Burning MSW or RDF.
1500036 | NSPS | GG | Monitoring at Turbines During Non-Operational Periods.
1500038 | NSPS | A, JJJJ | 30-Day Advance Test Notice Waiver for Generators.
1500039 | NSPS | Cb, Eb | Carbon Feed Rate Monitoring Waiver Request.
1500049 | NSPS | KKKK | Performance Test Waiver for Identical Turbines.
1500051 | NSPS | J, Ja | Alternative Monitoring Plan for Tank Degassing and Vapor Control Projects at Petroleum Refineries.
1500054 | NSPS | NNN | Alternative Monitoring for an Absorber on a Distillation Unit.
1500056 | NSPS | OOO | Applicability Determination for Nonmetallic Mineral Processing Loading Station Enclosed in a Building.
1500057 | NSPS | Ce, Ec | Alternative Monitoring for Wet Scrubber at a Waste Incinerator.
1500058 | NSPS | J | Alternative Monitoring for Wet Gas Scrubber In Lieu of COMS at an FCCU.
1500059 | NSPS | IIII | Emergency Generator Applicability with Respect to Readiness Testing and Commissioning.
1500060 | MACT, NESHAP, NSPS | IIII, ZZZZ | Regulatory Interpretation of NSPS and NESHAP Emergency Internal Combustion Engine Provisions.
1500062 | NSPS | Ja | Alternative Monitoring of Hydrogen Sulfide and TRS in Sour Gas Routed to Flares.
1500063 | NSPS | J | Alternative Monitoring Plan for Wet Gas Scrubber at a Refinery.
1500064 | NSPS | OOOO | Alternate Reporting Schedule for Gas Plant.
1500065 | NSPS | JJJJ | Applicability Determination and Testing Waiver Request for Spark Ignition Engines.
1500066 | NSPS | JJJJ | Alternative Testing for Spark Ignition Engines.
1500067 | NSPS | IIII | Alternative Test Method Request for Compression Ignition Engines Switching to Biodiesel.
1500068 | NSPS | J, Ja | Alternative Monitoring of Hydrogen Sulfide from Portable Thermal Oxidizers at Multiple Refineries.
1500069 | NSPS | JJJJ | Alternative Test Method to Cutter Analyzers for Emissions from an Internal Combustion Engine.
1500071 | NSPS | JJJJ | Alternative Test Method for Non-methane Organic Emissions from Stationary Spark Ignition Combustion Engines.
1500072 | NSPS | J | Alternative Monitoring Plan for Hydrogen Sulfide Content of Refinery Fuel Gas.
1500073 | MACT, NSPS | ZZZZ, JJJJ | Alternative Test Method for Non-methane Organic Emissions from Stationary Spark Ignition Combustion Engines.
1500074 | NSPS | Ec | Deadline for Initial Compliance Testing of a Waste Incinerator.
1600004 | NSPS | DD | Clarification of the Definition of Permanent Storage Facilities.
A150001 | Asbestos | M | Standard Practice for Comprehensive Building Asbestos Surveys.
C150001 | CFC | C | Regulatory Interpretation of Evaporator Coil Leak Repair Requirement.
M150010 | MACT, NESHAP, NSPS | A, PPPPPP, KK | Request for Opacity Test Waiver.
M150011 | MACT, NSPS | ZZZZ, IIII | Applicability of Emergency and Certified Engines to NSPS and NESHAP.
M150012 | MACT | ZZZZ | Applicability Determination for Nonroad versus Stationary Engine.
M150013 | MACT, NESHAP | HHHHHH | Applicability Determination for Vehicle Undercoating.
M150015 | MACT, NESHAP | A, PPPPPP | Alternative Visible Emission Monitoring at a Lead Acid Battery Plant.
M150016 | MACT, NESHAP | MMMMMM, YY | Applicability of Tire Reclamation Facility to Carbon Black Production NESHAP.
M150017 | MACT, NESHAP | HHHHHH | Regulatory Interpretation of Applicability of Truck Bed Lining Operations to Area Source NESHAP for Paint Stripping and Miscellaneous Surface Coating.
M150023 | MACT | LLL | Alternative Monitoring for Particulate Matter on a Common Stack at a Portland Cement Plant.
M150024 | MACT | S | Alternative Averaging Time for Inlet Flow Monitoring as a Surrogate for Methanol Destruction at a Pulp and Paper Facility.
M150025 | MACT | ZZZZ | Alternative Load Level for Pressure Drop Measurement at Internal Combustion Engines.
M150026 | MACT, NSPS | ZZZZ, IIII | Applicability Determination for Internal Combustion Engine to NSPS and NESHAP.
M150027 | MACT | ZZZZ | Applicability Determination for Remote Reciprocating Internal Combustion Engine.
M150028 | MACT | DDDD, DDDDD | Applicability Determination for Rotary Gasifiers as Process Heaters to the Boiler MACT.
M150029 | MACT | ZZZZ | Performance Test Waiver for Reciprocating Internal Combustion Engines.
M150030 | MACT | DDDDD | Applicability Determination for a Hybrid Suspension Grate Biomass Boiler under the Boiler MACT.
M150031 | MACT | JJJJJJ | Applicability Determination for Electric Generating Units under the Boiler Area Source NESHAP.
M150034 | MACT | ZZZZ | Applicability Determination for Backup Power Generator under RICE NESHAP.
M150036 | MACT, NESHAP | A | 60-day Advance Test Notice Waiver.
Z150002 | NESHAP | N | Applicability Determination for Manufacture of Colored Art Glass.
Z150004 | MACT, NESHAP, NSPS | ZZZZ, Db, IIII, JJJJ | Applicability Determination for Offshore Gas Port Emission Units.
Z150005 | MACT, NESHAP | ZZZZ | Applicability Determination for Emergency Stationary Internal Combustion Engines at an Institutional Facility.
Z150006 | MACT, NESHAP | ZZZZ | Regulatory Interpretation on Minimizing Engine Idle Time for Internal Combustion Engines.
Z150009 | MACT, NESHAP | ZZZZ | Regulatory Interpretation of Emergency Generator Provisions under NESHAP Subpart ZZZZ.
Z150010 | MACT, NESHAP | ZZZZ | Regulatory Interpretation on Rule Applicability to Stationary Engines.
Z150011 | MACT, NESHAP | ZZZZ | Applicability Determination for Emergency Engines to RICE NESHAP.

Abstracts

Abstract for [1500021]

Q: Will EPA approve a change to the previously approved March 22, 2011 alternative monitoring plan (AMP) for Shell Oil Products Puget Sound Refinery (PSR) in Anacortes, Washington?

A: Yes. EPA conditionally approves Shell's revision to the PSR 2011 AMP. For the monitoring of H2S, PSR is requesting to monitor as required by NSPS subpart J, rather than the alternative monitoring method that was specified in the 2011 AMP. PSR requests that certain portions of the approved AMP stay in place to maintain approval of an alternative means for demonstrating compliance for three interconnected flares. The conditions that must be satisfied to allow PSR to rely on the AMP instead of utilizing an H2S continuous monitoring system according to subpart J are stated in the EPA approval letter.

Abstract for [1500022]

Q: Will EPA approve an alternative monitoring plan (AMP) for the Shell Oil Anacortes, Washington facility to install, maintain, and operate a total sulfur continuous monitoring system (CMS) as an alternative to a hydrogen sulfide (H2S) CMS, and to use sulfur data collected at the east flare to represent the sulfur content at the north and south flares?

A: Yes. EPA conditionally approves Shell's AMP for utilizing a H2S CMS. The conditions to allow Shell to rely on the AMP instead of utilizing an H2S CMS are stated in the EPA is approval letter.

Abstract for [1500023]

Q: Will EPA grant approval of exempted status under 40 CFR 60.2887(h) of the NSPS subpart EEEE as a rural institutional waste incinerator for an incineration unit that Glacier Bay National Park and Preserve (the Park) in Alaska intends to purchase and install?

A: Yes. EPA determines that the proposed incinerator meets the exclusion for rural institutional waste incinerators because the unit is located more than 50 miles from the boundary of the nearest Metropolitan Statistical Area, alternative disposal options are not available or are economically infeasible, and the Park has submitted this request prior to initial startup of the incinerator.

Abstract for [1500024]

Q: Are all on-site units at Kalama Export located in Kalama, Washington that were constructed after August 3, 1978, subject to NSPS subpart DD for Grain Elevators when applicability is triggered due to expanded capacity?

A: No. In its response to the Southwest Clean Air Agency in Vancouver, Washington, EPA explains that the rule applies to each individual affected facility at a grain elevator. Therefore, only the units that are constructed, modified, or reconstructed when and after the NSPS is triggered because of expanded capacity become subject to the rule.

Abstract for [1500025]

Q1: Does NSPS subpart AAAA for Small Municipal Waste Combustion (MWC) Units apply to gas combustion turbine that combust a small amount of non-condensable hydrocarbon gases, which is located at the Green Power facility in Pasco, Washington?

A1: Yes. In a response to the Washington State Department of Ecology and the counsel to the source, EPA indicates that the NSPS subpart AAAA applies to the gas combustion turbine it is considered to be within the MWC unit boundaries and based on the capacity of the MWC. Based on the MWC definition at 40 CFR 60.1465, the catalytic pressure-less de-polymerization process (CDP) begins the MWC since it is used to convert municipal solid waste into synthetic liquid petroleum fuel, which includes a small amount of non-condensable hydrocarbon gases. Since the non-condensable hydrocarbon gas generated by the CDP is combusted in the turbine, the compressor section and combustor section of the turbine at the facility are within the MWC boundaries. In addition, it is determine that the combustion capacity of the MWC, which would not include the capacity attributable to the flare since it is a control device, is within the applicable range of subpart AAAA. Furthermore, the Green Power operation does not combust landfill gases and the landfill gas exemption, therefore, is not applicable.

Q2: Does NSPS subpart AAAA apply to the Green Power CDP if it operates in anaerobic environment, exposed only to inert gases, due to explosion hazard?

A2: No. EPA determines that the Green Power CDP would not be subject to Subpart AAAA due to the absence of combustion if the plant is constructed such that there is no combustion of the synthetic fuel product.

Q3: Does NSPS subpart AAAA apply to the Green Power proposed Algae Production Alternative whereby the non-condensable hydrocarbon gases produced in the reactor are routed to a biological treatment unit as a nutrient in the production of algae which would subsequently be harvested and reintroduced as a feedstock for the CDP process?

A3: No. EPA determines that in this scenario Subpart AAAA would not apply due to the absence of combustion.

Abstract for [1500026]

Q: Will EPA approve a source test plan submitted by Eielson Air Force Base in Alaska for a particulate matter source test on six bin vent filters for a new mechanical coal tipper subject to NSPS subpart Y?

A: Yes. EPA approves the Eielson source test plan under subpart Y. Eielson has incorporated the guidance received by EPA regarding the proper location for a testing port installation to address issues with inadequate duct diameter sizing for that bin into the source test plan.

Abstract for [1500027]

Q1: Will EPA, in consideration of difficulty in applying existing methods to new technology, waive the Method 5 and a portion of the Method 9 readings for three ship loader bustle filters at EGT Development, LLC's (EGT's) Export Elevator facility at Port of Longview, Washington?

A1: Yes. EPA grants EGT the waiver for the Method 5 reading required under the initial performance and for a portion of the required Method 9 readings for the three bustle filters for several reasons. There are technical difficulties that arise in performing the test methods with the new loading spout dust control system design. Specifically, technical issues arise with conducting the Method 5 test where the loading spout dust control system has been moved to the bottom of the ship loader spout, and with conducting a Method 9 opacity reading while the loading spout is within the hold of the ship loading grain. These technical issues combined with the anticipated significant margin of compliance, the testing of other units with identical filter media at the same facility, and the opacity readings that can be performed justifies the waiver approval.

Q2: Will EPA approve a waiver of initial performance testing for certain Donaldson bin vent CPV design PowerCore Filters (CPV filters) that EGT plans to install at this facility when they are in a group of identical units?

A2: Yes. EPA waives the initial Method 5 performance test for certain CPV filters as outlined in the EPA approval letter. NSPS emission test results with Duraplex filter media show maximum emissions are an order of magnitude lower than the manufacturer's guarantee (0.002 grains/dscf), and two orders of magnitude lower than the 0.01 grains/dscf NSPS limit. Furthermore, the local air permitting authority will be requiring additional testing on a reasonable schedule and there will be a rotation of testing within a group, so that a different unit within the group is tested each time for any future performance tests. This applies to a total of 14 NSPS test units, which represents a group of identical units where that group is unique, has a unique air volume and aspirates a conveyor or facility with a unique conveying capacity.

Abstract for [1500028]

Q: Will EPA waive the requirement for Cargill Environmental Finance (Cargill) to performance test at two biogas-fueled generators under NSPS subpart JJJJ based on the test results of an identical (third) biogas-fueled generator at the Dry Creek Dairy in Hanson, Idaho?

A: Yes. EPA waives the Cargill performance test for the three generators that are located at the same facility, produced by the same manufacture, have the same model number, rated capacity, operating specifications, and are maintained in a similar manner. There is a substantial margin of compliance documented by the prior performance test results that were submitted.

Abstract for [1500029]

Q: Will EPA waive the requirement of 40 CFR 60.8(d) to provide notification 30 days in advance of a performance test for recently installed biogas-fueled generators at Big Sky West in Gooding, Idaho due to winter weather conditions and the pending holidays?

A: Yes. EPA waives the requirement to provide notification 30 days in advance of a performance test pursuant to the provisions at 40 CFR 60.19(f)(3) to implement it early in December due to weather conditions and the pending Holidays. EPA requests that you provide the exact testing date, a copy of the full testing protocol, and the results of the test once completed to the regulatory agencies.

Abstract for [1500030]

Q: Does EPA determine that Shell Offshore's incineration unit located on the Discoverer Drill vessel, operated in the Chukchi Sea is exempted from the requirements of 40 CFR part 60 subpart CCCC for Commercial and Industrial Solid Waste Incineration Units pursuant to the exemption provided in 40 CFR 60.2020(c)(2)?

A: Yes. Based on the information provided, EPA determines that Shell's incinerator qualifies for the exemption in 40 CFR 60.2020(c)(2) for units under a certain capacity that burn greater than 30 percent municipal solid waste or refuse-derived fuel, provided that Shell keeps the records required to demonstrate that it continues to qualify for the exemption on an ongoing basis.

Abstract for [1500031]

Q: Does EPA determine that physical changes made to two boilers subject to NSPS subpart Dc owned and operated by Yakama Forest Products (YFP) at the Large Log Complex have de-rated the boilers' heat input capacity?

A: Yes. Based on the test data submitted following the physical changes of replacing the burners on each boiler, EPA determines that boilers No. 3 and 4 have been permanently de-rated to a heat input capacity below 30 MM BTU/hr. YFP must ensure that oil pressure at the burners meets the conditions of this determination to remain consistent with the conditions during the source test that was the basis for this determination.

Abstract for [1500033]

Q: Will EPA approve Northwest Pipeline's request for an extension of the deadline to conduct a performance test required by 40 CFR 60.4340(a) in NSPS subpart KKKK for a turbine located at the Chehalis Compressor Station?

A: No. EPA determines that an applicable basis for waiving the testing requirement has not been identified. According to 40 CFR 60.4340(a), testing can be performed once every two years when emissions are less than 75 percent of the emission limit. Therefore, Northwest Pipeline must perform annual performance tests in accordance with § 60.4400.

Abstract for [1500034]

Q: Will EPA approve an alternative monitoring procedure (AMP)for monitoring the amount of waste combusted in the Northstar incinerator to demonstrate that the incinerator qualifies for the co-fired combustor exemption under 40 CFR part 60 subpart Ec for Hospital Medical Infectious Waste (HMIW) Incinerators located at BP Exploration Alaska's (BPXA's) Northstar Development Facility in the Beaufort Sea?

A: No. EPA denies the AMP because use of the proposed method to weigh only the HMIW incinerated, instead of weighing both the HMIW and the non-HMIW, will not assure compliance with BPXA's claim that the incinerator meets the exemption for co-fired combustors under 40 CFR part 60 subpart Ec, as well as the exemption for “municipal waste combustion units” in 40 CFR 62.14525(c)(2).

Abstract for [1500035]

Q: Does EPA determine that Andarko's incineration unit located at various drilling locations within the Gubik and Chandler Prospects in Alaska is exempted from the requirements of 40 CFR part 60 subpart CCCC pursuant to the provisions at 40 CFR 60.2020(c)(2)?

A: Yes. Based on the information provided, EPA determines that Andarko's incinerator qualifies for the exemption in 40 CFR 60.2020(c)(2) for units under a certain capacity that burn greater than 30 percent municipal solid waste or refuse-derived fuel. Andarko must keep the records required to demonstrate that it continues to qualify for the exemption on an ongoing basis.

Abstract for [1500036]

Q: Is fuel sampling required for two turbines owned by Black Hills Corporation that monitor under NSPS subpart GG custom fuel monitoring schedules for semi-annual periods in which the turbines have not operated for the entire semi-annual period? The turbines are located at the Glenns Ferry Cogeneration Partners and Rupert Cogeneration Partners facilities in Idaho.

A: No. EPA determines that fuel sampling required by a custom fuel monitoring schedule is not required for semi-annual periods in which the turbine has not operated for the entire semi-annual period. Sampling must be done upon re-startup.

Abstract for [1500038]

Q: Will EPA waive the requirement in 40 CFR 60.8(d) for Cargill to provide a notification 30 days in advance of a performance test for the recently installed biogas-fueled generators at Dry Creek Dairy in Hansen, Idaho?

A: Yes. EPA waives the requirement to provide notification 30 days in advance of a performance test pursuant to the provisions at 40 CFR 60.19(f)(3). The source identified a date on which testing would be conducted.

Abstract for [1500039]

Q: Will EPA grant a waiver to Covanta Marion, Incorporated (CMI) in Brooks, Oregon, for the municipal waste combustor (MWC) unit load level limitations, under 40 CFR 60.53b(b)(2), for the two weeks preceding, and during the annual dioxin/furan and mercury performance tests for the purpose of evaluating system performance?

A: Yes. For the purpose of evaluating system performance, EPA waives the MWC load limit for the two week period preceding, and during the annual dioxin/furan and mercury performance test.

Abstract for [1500049]

Q: Will EPA provide a waiver pursuant to 40 CFR 60.8(b)(4) from the initial and subsequent performance testing requirement under NSPS subpart KKKK for three identical Solar Saturn T-1301 turbines operating under the same conditions on the same platform in the Cook Inlet at XTO Energy's Kenai, Alaska facility?

A: Yes. EPA grants the request to expand the November 9, 2011 waiver to Solar Saturn T-1301 turbine, serial number SDR-105092 under the condition that a different turbine will be tested each year on a three year rotation. If any tests exceeds 50 percent of the NOx emission limits, all turbines will be required to conduct performance tests.

Abstract for [1500051]

Q: Can EPA approve an Alternative Monitoring Plan (AMP) for Envent Corporation to conduct monitoring of hydrogen sulfide (H2S) emissions, in lieu of installing a continuous emission monitoring system when performing tank degassing and other similar operations controlled by portable, temporary thermal oxidizers, at refineries in Region 6 States that are subject to NSPS subparts J or Ja?

A: Yes. EPA conditionally approves the AMP based on the description of the process, the vent gas streams, the design of the vent gas controls, and the H2S monitoring data furnished. EPA specifies the proposed operating parameter limits and data which the refineries must furnish as part of the conditional approval. The approved AMP applies only to similar degassing operations conducted by ENVENT at refineries in EPA Region 6.

Abstract for [1500054]

Q: Is the alternative monitoring plan (AMP) submitted to the Tennessee Department of Environment and Conservation (TDEC) for the distillation unit in Source B-99A-2 at the Eastman Chemical Company (Eastman) facility in Kingsport, Tennessee acceptable?

A: Yes. Based upon the information provided in the AMP by Eastman, EPA determines that the AMP is acceptable since the proposed monitoring parameters (water flow rate, propionic acid flow rate, and propionic acid inlet temperature) will provide adequate assurance of compliance. We agree that three of the parameters that the company would be required to monitor under NSPS subpart NNN (propionic acid specific gravity, water specific gravity, and water temperature) will not be useful indicators of absorber performance for the source in question. For ongoing compliance demonstration, EPA also provides guidance on how to define excess emissions in terms of the alternative monitoring parameters.

Abstract for [1500056]

Q1: Does a silo or frame structure enclosing a railcar loading station at three separate Hi-Crush Proppant nonmetallic mineral processing plants located in Augusta, Independence, and Blair, Wisconsin meet the definition of a “building” under NSPS subpart OOO?

A1: Yes. Based on Hi-Crush's representation that the enclosed railcar loading stations are housed in structures with roofs, EPA concludes that these structures would meet the definition of “building” in NSPS subpart OOO.

Q2: Would the openings of those buildings be considered a “vent”?

A2: No. The building openings have no mechanically induced air flow for the purpose of exhausting from a building.

Q3: Since these railcar loading stations are contained in a building, would the applicable particulate matter standard only be that fugitive emissions from the building openings must not exceed 7 percent opacity?

A3: Yes. One emission limit option for an enclosed railcar loading station that is itself enclosed in a building is to restrict fugitive emissions from the building openings (except for vents as defined in 40 CFR 60.671) to 7 percent opacity, per section 60.672(e)(1).

Abstract for [1500057]

Q: Does EPA approve a waiver from the 40 part 60 subpart Ec requirement to monitor the minimum pressure drop across a wet scrubber that control emissions of acid gases (i.e., HCl) and is part of the emission control system for the Stericycle hospital/medical/infectious waste incineration (HMIWI) unit in Apopka, Florida? The Stericycle HMIWI unit is equipped with a dry scrubber followed by a fabric filter and a wet scrubber and with a selective noncatalytic reduction system. All other applicable parameter monitoring requirements are proposed to be met by the facility.

A: Yes. EPA approves the waiver request since the removal of acid gases is not dependent on the monitoring of wet scrubber minimum pressure drop and all other applicable monitoring parameters for the control system will be met. Monitoring of the other wet scrubber monitoring parameters identified in Table 3 of subpart Ec (i.e., the minimum scrubber liquor flow rate and the minimum scrubber liquor pH) will indicate if the scrubber is working properly. Further, compliance with the PM emission limit is achieved without the use of the wet scrubber based on information.

Abstract for [1500058]

Q: May an Alternative Monitoring Plan (AMP) be conditionally approved for parametric monitoring in lieu of a continuous opacity monitoring system (COMS) for a Wet Gas Scrubber (WGS) on a Fluidized Catalytic Cracking Unit (FCCU) subject to NSPS subpart J, at the Phillips 66 Company Alliance Refinery in Belle Chasse, Louisiana?

A: Yes. Based on the information provided, EPA approves the AMP for the proposed operating parameters conditioned on the source conducting a performance test that demonstrates compliance and that establishes the operating parameter limits (OPLs) for the WGS. EPA approves the two proposed operating parameters, including the 1) minimum Liquid-to-Gas (L/G) Ratio on a 3-hour rolling average basis; and, 2) minimum slurry liquid circulation pump discharge pressure on a 3-hour rolling average basis. The OPLs are to be recalculated based on the average of three runs, provided the average PM emissions for the three runs meet the PM emissions limit of the rule in pounds per kilopounds of coke processed.

Abstract for [1500059]

Q: Is Capitol One National Association required to petition the Administrator under 40 CFR 60.4211(e) for approval to exceed the 100 hour readiness testing limit for emergency generators testing for commissioning purposes under subpart IIII for internal compression engines during the initial onsite commissioning process of its Data Center in Chester, Virginia?

A: No. A petition is not necessary or appropriate. When a new greenfield source is under construction, subpart IIII allows emergency generators to be used as needed to complete the construction process, so long as Capitol One abides by the 100 hours limitation when the Data Center is in commercial operation.

Abstract for [1500060]

Q: Portland General Electric Company (PGE) seeks verification that the emergency diesel-fired emergency generators at its Carver Readiness Center in Clackamas, Oregon, run for 50 of 100 hours total use to supply power, allowed under NSPS subpart IIII and NESHAP subpart ZZZZ, can be part of its Dispatchable Standby Generation (DSG) program.

A: 40 CFR 60.4211 and 63.6640 authorize limited non-emergency use of diesel engines that are classified and regulated as emergency engines. EPA determines that the language in 40 CFR 63.6640 of subpart ZZZZ regarding emergency engines dispatched under a financial arrangement with another entity was not intended to prohibit utilities from dispatching engines that they own and operate under the 50-hour non-emergency operation option provided.

Abstract for [1500062]

Q: Does EPA approve revisions to the Alternative Monitoring Plan (AMP) for monitoring hydrogen sulfide (H2S) concentration and determining the total reduced sulfur (TRS) concentration in the sour gas routed to flares at the Lion Oil Company El Dorado (Lion Oil), Arkansas Refinery, which are subject to NSPS subpart Ja?

A: Yes. EPA conditionally approves Lion Oil's revised AMP, which supersedes previous approvals to expand use of the approved AMP for determining TRS under NSPS subpart Ja, and that includes additional operating parameters, clarifications on sampling locations, and test protocol specifications.

Abstract for [1500063]

Q: Does EPA approve a revision to an Alternative Monitoring Plan (AMP) that has been conditionally approved for the wet gas scrubber (WGS) on a Fluidized Catalytic Cracking Unit (FCCU) at Marathon Petroleum's refinery in Texas City, Texas subject to NSPS Part 60 subpart J, be resubmitted for approval of a revision based on an additional operation mode at reduced charge rate?

A: Yes. EPA conditionally approves the revision to the EPA-approved AMP based on the additional information provided by Marathon to add an additional mode of operation. The condition for approval requires Marathon to conduct performance testing to demonstrate compliance and to establish the operating parameter limits (OPLs) for the WGS at the additional FCCU reduced charge rate, as established in the EPA response letter.

Abstract for [1500064]

Q: Does EPA approve alternate semiannual reporting periods under section 60.5420(b) of NSPS subpart OOOO to run from April 1 through September 30, and from October 1 through March 31, at the Atlas Pipeline Driver Gas Plant in Midland, Texas?

A: Yes. EPA approves the proposed alternate reporting schedule to align the periodic reporting time period requirements of NSPS subpart 0000 since it does not extend the reporting period that would be covered by the next semiannual report, as allowed under section 60.5420(b). The alternate reporting schedule does not extend the reporting period that would be covered by the next semiannual.

Abstract for [1500065]

Q1: Are the five City of Rock Island Public Works Department 880 HP spark ignition natural gas fired engines (plus one offline spare) at their wastewater treatment plant in Wisconsin considered emergency engines under NSPS subpart JJJJ?

A1: No. Since the engines would be operated approximately 16 times per year for 270 hours, EPA determines that the engines do not meet the definition of emergency stationary internal combustion engines. Therefore, the engines are subject to subpart JJJJ.

Q2: Can a waiver from performance testing be granted for the engines?

A2: No. EPA cannot grant a waiver of performance testing for these engines, but due to the potential difficulties in testing, EPA encourages the City to request alternative testing if necessary.

Abstract for [1500066]

Q: May EPA approve an alternative to stack testing under NSPS subpart JJJJ for nine identical non-certified Riverview bio-gas fueled generators located on three farms (Riverview Dairy, West River Dairy, and District 45 Dairy) in Minnesota?

A: No. EPA does not approve any of the five alternative options proposed by Riverview for its generators, which included: (1) exemption from ongoing testing for engines that meet the standard, (2) retroactive certification by the manufacturer, (3) self-certification through testing, (4) provide certification to manufacturers that have met the standards, and (5) test one engine and apply results to all nine. However, EPA does provide two alternatives, Modified Option 1A and 1B that could be used to demonstrate compliance. Modified Option 1A is annual testing for NO, NOX, CO and O2 using a portable analyzer. Modified Option 1B is to test each dairy's engine sets at least once every three years, rotating annually on a three-year cycle.

Abstract for [1500067]

Q: May an alternative test method be approved for Hawaiian Electric Company's four new compression ignition engines subject to NSPS subpart IIII at the Honolulu International Airport in Oahu that were certified on diesel but will be operated on biodiesel?

A: Yes. EPA determines that operation of the engines on biodiesel would not void the certification if all of the following conditions are met: the biodiesel meets the requirements of 40 CFR 60.4207(b), the manufacturer's warranty includes the use of the biodiesel, and the biodiesel meets ASTM D6751. The engines must also be installed, configured, operated and maintained per the manufacturer's instructions.

Abstract for [1500068]

Q: Does EPA approve an Alternative Monitoring Plan (AMP) for Evergreen Industrial Services (EIS) to conduct monitoring of hydrogen sulfide (H2S) emissions in lieu of installing a continuous emission monitoring system (CEMS), to monitor emissions controlled by portable and temporary thermal oxidizers units (TOUs) during tank degassing and other similar operations at refineries in Region 6 that are subject to NSPS subparts J or Ja?

A: Yes. Based on the description of the process, the vent gas streams, the design of the vent gas controls, and the H2S monitoring data furnished, EPA conditionally approves the AMP when EIA is conducting degassing operations at refineries in Region 6 since it is impractical to use a H2S CEMS in a portable TOUs. The EPA response letter list the operating conditions for degassing operations and data which the refineries must furnish to EIS as part of the conditional approval.

Abstract for [1500069]

Q: May Derenzo & Associates in Livonia, Michigan use a TECO Model 55C analyzer in lieu of Method 18 that will be used with Method 25A to determine nonmethane organic compounds emitted from an internal combustion engine subject to NSPS subpart JJJJ?

A: Yes. EPA approves the request to use TECO Model 55C as an alternative to Method 18 for measuring methane since it should produce results similar to the “cutter” analyzers already allowed by the regulation.

Abstract for [1500071]

Q: Does EPA approve the use by TRC Companies located in Lowell, Massachusetts of a TECO Model 55C analyzer to measure non-methane organic compounds (NMOC) from engines subject to NSPS subpart JJJJ?

A: Yes. EPA approve TRC Companies request for use of the TECO Model 55C analyzer in lieu of Method 18 to measure NMOC from subpart JJJJ engines, and the analyzer may be used by other engines subject to NSPS subpart JJJJ. EPA will announce this as broadly applicable to all stationary spark ignition combustion engines on our Web site at http://www.epa.gov/ttn/emc/trnethods.html#CatB).

Abstract for [1500072]

Q1: Does EPA conditionally approve a revision to a previously approved Alternative Monitoring Plan (AMP) to allow for an automatic sampling system, and an associated flow meter for collecting and recording hydrogen sulfide (H2S) content, to be included for the West Operations Ground Flare (Multi Jet Flare), which is part of a Flare Gas Recovery System (FGRS) subject to NSPS subpart Ja, at the Motiva Enterprises Norco Refinery in Norco, Louisiana?

A1: Yes. EPA conditionally approves the AMP revision based on how the automatic sampling system functions regarding the configuration and operation of the FGRS. The H2S concentration of the combined refinery fuel gas stream routed to the FGRS and the Multi Jet Flare was less than 1 part per million. This satisfied EPA's condition for approval that the H2S content shall be inherently low. Additionally, the automatic sampling device samples the blended fuel gas stream before it is sent to the Multi Jet Flare, and there are no crossover points between the FGRS and other fuel gas streams. This satisfied EPA's condition for approval that no crossover points shall exist in the fuel gas vent stream going to the Multi Jet Flare. Based on review by EPA Headquarters, Motiva also was authorized to use an alternate test method for testing and analysis, which removed the previous requirement to measure and record refinery fuel gas H2S concentrations using the Length of Stain Tube method. EPA's “Conditions for Approval of the Alternative Monitoring Plan for Miscellaneous Refinery Fuel Gas Streams, dated December 7, 1999, are incorporated by reference, except for the monitoring provisions in Steps 1 through 7, as described in the EPA response letter.

Q2: What recordkeeping and report requirements are included in the conditional approval?

A2: Motiva shall maintain the H2S concentration data from the sampling system and the alternate test method in the laboratory information management system. The gas flow data from the flow meter will be maintained in the electronic process data storage system. Additional records shall be kept to note when the FGRS is operating in either of two different scenarios. Quarterly reporting must be submitted, except more frequently under certain circumstances, as outlined in the conditional EPA approval letter.

Abstract for [1500073]

Q: May Derenzo & Associates in Livonia, Michigan use the TECO Model 55I analyzer (which is a newer version of the previously approved Model 55C) in lieu of Method 18 and Method 25A to determine non-methane organic compounds (NMOC) emitted from RICE subject to NSPS subpart JJJJ or NESHAP subpart ZZZZ?

A: Yes. EPA approves the alternative testing request for NSPS subpart JJJJ, provided that the facility follows all applicable requirements in Method 25A for sample heating, appropriate test procedures, calibration and standardization. Since NESHAP subpart ZZZZ does not require the measurement of NMOC that part of the request is not considered.

Abstract for [1500074]

Q: Can EPA confirm the proposed deadline for completing the initial performance test under 40 CFR part 60 subpart Ec for the University of Texas Medical Branch's medical infectious waste incinerator in Galveston, Texas?

A: Yes. EPA confirms that the initial compliance performance test should be completed within 60 days of achieving maximum production rate, and not later than 180 days after initial startup as required under section 60.8 of the General Provisions.

Abstract for [A150001]

Q: Does the use of the Pre-Construction Survey, as described in ASTM E2356-14 “Standard Practice for Comprehensive Building Asbestos Surveys,” demonstrate compliance with the “thorough inspection” requirement at 40 CFR 61.145(a)?

A: Yes. If an owner/operator follows the steps described in Sections 1 through 5 and Section 8 in ASTM E2356-14 “Standard Practice for Comprehensive Building Asbestos Surveys”, it would provide a thorough inspection of the facility. However, EPA would not accept the Limited Asbestos Screen (i.e., Practice E2308) described in Section 1.5 as a substitute for the Comprehensive Building Asbestos Survey, and would not consider the Limited Asbestos Screen as a thorough inspection.

Abstract for [C150001]

Q: Do regulations related to ozone depleting substances under 40 CFR part 82 prohibit the use of Leak Stop to repair leaks in residential air conditioning systems that contain chlorofluorocarbons?

A: No. The use of aerosol chemical products such as Leak Stop are not prohibited as long as there is no “knowing venting” or “knowing release” of an ozone depleting substance taking place. We do not currently have any information about the propellant used by the Leak Stop product. However, if it is propelled by a Class I or II ozone depleting substance, then it is banned under the non-essential products exclusion found at 40 CFR 82.60.

Abstract for [M150010]

Q: Will EPA approve a waiver of the initial performance test according to the provisions of 40 CFR 60.8(b)(4) and 63.7(h) for a new chemset chamber subject to the NESHAP for Lead Acid Battery Manufacturing, 40 CFR part 63 subpart PPPPPP, and the NSPS for Lead Acid Battery Manufacturing, 40 CFR part 60 subpart KK, at the Johnson Controls Battery Group Inc.'s (JCBGI”s) facility in Canby, Oregon?

A: No. EPA is denying the requested waiver because the new unit is not identical to the previously installed units and could have a different capacity. While emissions are expected to be low, the initial performance test is valuable to verify the installations of new equipment.

Abstract for [M150011]

Q: Will EPA approve a National Security Exemption (NSE)for the Department of Defense to waive the performance testing requirements for twelve stationary diesel fired engines constructed between 2003 and 2009, all of which are subject to the National Emissions Standard for Hazardous Air Pollutants for Stationary Reciprocating Internal Combustion Engines (RICE) at 40 CFR part 63, subpart ZZZZ, while five engines are also subject to the New Source Performance Standard for Compression Ignition RICE at 40 CFR part 60, subpart IIII, which are located at Fort Greely, Alaska?

A: No. An NSE exemption is not necessary because 40 CFR part 63 subpart ZZZZ does not require performance testing for emergency engines; according, an exemption from performance testing is not necessary for these twelve engines if they meet the definition of “emergency stationary RICE” under subpart XXXX. In addition, subpart IIII does not require performance testing for manufactured-certified engines; accordingly, an exemption from performance testing under subpart IIII is not necessary for the five manufactured-certified engines located at Fort Greely.

Abstract for [M150012]

Q: Does EPA determine that the operation of an emergency generator owned and operated by the Union Pacific Railroad's rail yard facility in Lane County, Oregon is classified as a stationary source under NESHAP subpart ZZZZ?

A: No. EPA determines that the engine used to provide power restoration for emergencies at railroad tunnels in Oregon is a portable diesel generator. Because the engine has not provided power, or operated for emergency use, or any other purpose other than testing at the location where it has been stored for more than 12 months, it does not meet the definition of stationary engine for that location under subpart ZZZZ.

Abstract for [M150013]

Q1: Does EPA determine that 40 CFR part 63 subpart HHHHHH, National Emission Standards for Hazardous Air Pollutants: Paint Stripping and Miscellaneous Surface Coating Operations at Area Sources, apply to the process of spray applying vehicle undercoating?

A1: Yes. EPA determines the process of spray applying vehicle undercoating is subject to NESHAP subpart HHHHHH. The undercoating would be considered a coating under the NESHAP definitions and would not be a sealant. It is generally spray-applied using a hand-held device that creates an atomized mist of coating and deposits the coating on a sub straight, just as are other automotive coatings.

Q2: Does EPA determine that the exemption for facilities that do not spray-apply target HAP-containing coatings is available to part of a facility?

A2: No. EPA determines that a facility that is not exempt must satisfy the rule requirements for all of their spray-applied coating operations. If the facility spray-applies no target HAP, then it may request exemption from the rule.

Abstract for [M150015]

Q: Will EPA approve an alternative to the visible emissions monitoring requirement of 40 CFR 63.11423(b) of the National Emission Standards for Hazardous Air Pollutants (NESHAP) for Lead Acid Battery Manufacturing Area Sources, subpart PPPPPP, for Johnson Controls Battery Group Incorporated's facility in Canby, Oregon to shut down equipment per permit conditions if any visible emissions are observed rather than continuing to operate and conduct a Method 9 test?

A: Yes. EPA approves this minor change in monitoring methodology pursuant to 40 CFR 63.8(b)(i) because it will be more stringent than that which is required according to 40 CFR 63.11423(b) by the NESHAP standard.

Abstract for [M150016]

Q: Does 40 CFR part 63 subpart MMMMMM for Area Source Carbon Black Production apply to Reklaim Technologies' tire reclamation facility at the Port of Morrow near Boardman, Oregon?

A: No. Based on the information provided by Reklaim, EPA determines that the process at Reklaim's facility is materially different from the “carbon black production” process that is subject to subpart MMMMMM. The process involves heating shredded tires in an oxygen starved environment to recover carbon black, oil and steel from the tires. As such the process does not fall within the definition of “carbon black production” and is not subject to subpart MMMMMM.

Abstract for [M150017]

Q: The Olympic Region Clean Air Agency (ORCAA) in Port Angeles, Washington asked if 40 CFR part 63 subpart HHHHHH for Paint Stripping and Miscellaneous Surface Coating Operations apply to the process of spray-applied truck bed lining.

A: EPA determines that operations that spray-apply coatings to truck bed liners, including color coatings, are subject to subpart HHHHHH, based on the definitions of coatings and spray-applied coating operations in 40 CFR 63.11180. Although the definition of “truck bed liner coating” does exclude color coats, that definition is not referred in 40 CFR 63.11170, the applicability section for subpart HHHHHH. The lining operation is generally spray-applied using a hand-held device that creates an atomized mist of coating and deposits the coating on a substrate, just as are other automotive coatings.

Abstract for [M150023]

Q: Does EPA approve Holcim's particulate matter (PM) alternative continuous parameter monitoring system (CPMS) plan for the common stack venting exhaust emissions from different sources at their Portland cement plant in Florence, Colorado, subject to the National Emission Standards for Hazardous Air Pollutants From the Portland Cement Manufacturing Industry, subpart LLL?

A: Yes. Pursuant to 40 CFR 63.8(f)(2) and 63.1350(o)(4), EPA conditionally approves the use of one PM CPMS on the common stack whereby a site-specific operating limit is established that corresponds to the results of performance testing demonstrating compliance with the kiln and clinker cooler emission limits. The conditions for approval are specified in the EPA response letter.

Abstract for [M150024]

Q: Does EPA approve an alternative monitoring plan that uses a longer averaging time for inlet flow monitoring as a surrogate parameter for monitoring methanol destruction in the Aeration Stabilization Basin (ASB) subject to the National Emission Standards for Hazardous Air Pollutants (NESHAP) from the Pulp and Paper Industry, subpart S, at the Clearwater Paper Corporation, Cypress Bend Mill located in McGehee, Arkansas?

A: Yes. Based on the monitoring data provided by the company and performance test results, EPA approves the AMP request. EPA agrees that a daily flow is not representative of the actual hydraulic retention time in the ASB, whereas a nine-day rolling average inlet flow established per 40 CFR 63.453(n)(4) provides an actual representation of the treatment system retention time.

Abstract for [M150025]

Q: Does EPA approve an alternative monitoring request to conduct monthly pressure differential measurements across the catalyst at load conditions within plus or minus 10 percent of the baseline load established during the initial engine performance tests outlined in QEP Field Services Company's (QEP) Consent Decree, rather than the plus or minus 10 percent of 100 percent load as required in 40 CFR part 63 subpart ZZZZ for Stationary Reciprocating Internal Combustion Engines located at Chapita, Coyote Wash, Island and Wonsits Valley Compressor Stations?

A: Yes. EPA conditionally approves the AMP request pursuant to § 63.8(t)(2) based on the performance testing negotiated as part of the QEP Consent Decree. EPA believes that it is technically appropriate to conduct the monthly pressure drop readings at plus or minus 10 percent of the load at an affected facility engine when the initial performance test that was conducted is showing compliance with the MACT ZZZZ. The conditions for approval are described in the EPA response letter.

Abstract for [M150026]

Q: Do NSPS subpart IIII and NESHAP subpart ZZZZ apply to the engine of a mobile power generator in Springdale, Arkansas that is designed to supply electrical power on a temporary basis, at various locations within the Kawneer Springdale Plant, and does not remain at any location greater than 12 months?

A: No. EPA determines that NSPS subpart IIII and NESHAP subpart ZZZZ do not apply since this engine is considered a nonroad mobile source. The mobile generator is a wheeled unit and its engine meets the criteria for a nonroad engine that it be by itself or in or on a piece of equipment that is portable or transportable. Furthermore, it will not remain in a single location for longer than 12 consecutive months.

Abstract for [M150027]

Q1: Is the stationary gas compression reciprocating internal combustion engine (RICE) at the Dimension Energy Company Coquille Bay, Louisiana facility a remote affected source under 40 CFR part 63 subpart ZZZZ?

A1: Yes. After reviewing the description of the RICE and its operations, EPA determines that it is an existing area source which meets the definition of a remote stationary RICE under 40 CFR 63.6675.

Q2: What are the continuing compliance requirements for a remote stationary RICE?

A2: The operator must: Perform prescribed preventative maintenance at certain intervals; maintain the RICE according to the manufacturer's instructions; minimize startup time or develop a maintenance plan using good air pollution prevention practices; and, maintain records to demonstrate that applicable requirements have been completed.

Abstract for [M150028]

Q: Does EPA agree that the Callidus Closed Loop Gasification System (CCLGS) at the Del-Tin Fiber plant in El Dorado, Arkansas is exempt from the Boiler MACT, subpart DDDDD under the exemption at 40 CFR 63.7491(h) because it is subject to and complying with the Plywood MACT, subpart DDDD?

A: No. The EPA determines that both the Boiler MACT and the Plywood MACT apply to specific components of the CCLGS based on a review of the design and operation information available for the Del-Tin Fiber facility, so the exemption at 40 CFR 63.7491(h) does not apply. The rotary gasifiers and secondary combustion chamber (SCC) are considered affected sources, specifically defined as “process heaters” under the Boiler MACT when combustion gases are not used to directly heat process material. The portion of combustion gases that directly flow through the dryer units are considered affected sources under the Plywood MACT (§ 63.2232(b) and § 63.2292) and are thereby exempted from the Boiler MACT requirements (§ 63.7491(1)). However, any combustion gases from the rotary gasifiers and the SCC that bypass the dryer units and are used for indirect heat transfer to process material or to heat transfer material for use in a process unit are subject to the Boiler MACT (§ 63.7575).

Abstract for [M150029]

Q: Does EPA agree to accept data from a prior performance test in lieu of a new performance test to demonstrate initial compliance with 40 CFR part 63 subpart ZZZZ for six natural gas fueled spark plug ignition engines at the ExxonMobil Chemical facility in Baton Rouge, Louisiana?

A: Yes. EPA accepts a previous performance testing for six engines conducted in lieu of implementing an initial test. The testing was done using the same methods specified in subpart ZZZZ, and was conducted within two years of the performance test deadline. Additionally, the equipment was not modified following the April 2012 testing.

Abstract for [M150030]

Q: Does EPA agree that the RockTenn Hodge Mill Boiler in Hodge, Louisiana is a biomass hybrid suspension grate boiler under 40 CFR part 63 subpart DDDDD?

A: Yes. EPA agrees that the boiler is subject to NESHAP subpart DDDDD since the description provided meets the definition of a hybrid suspension grate boiler found in the rule. Since natural gas and tire derived fuel (TDF) are also used, the facility must keep records to demonstrate the annual average moisture content is at or above 40 percent. The facility must use natural gas for startup, shutdown, and flame stabilization, and use TDF when excessively firing wet biomass fuel.

Abstract for [M150031]

Q: Are three Electric Utility Generating Units (EUGUs) located at the Lafayette Utilities System (LUS) Doc Bonin Electric Generating Station in Lafayette, Louisiana considered to be affected sources with gas-fired boilers that are not subject to Boiler Area Source MACT, subpart JJJJJJ?

A: EPA determines that the boilers are not affected sources subject to the Boiler Area Source MACT if all conditions at 40 CFR 63.11237 are met. Gas-fired boilers are excluded from subpart JJJJJJ per 40 CFR 63.11195(e). A permit limitation is necessary to verify applicability requirements are met for each EUGU for burning fuel oil only during natural gas curtailment, and to not exceed testing hours with fuel oil during any calendar year.

Abstract for [M150032]

Q1: Does EPA approve an Alternative Monitoring Plan (AMP) for three Reciprocating Internal Combustion Engines (RICE) subject to NESHAP subpart ZZZZ at the Occidental Permian Terrill Gas Treating Facility for testing at less than 100 percent maximum load?

A1: Yes. EPA approves Occidental Permian proposed AMP for a lower engine load be set as a maximum load for compliance demonstration. Specifically, we approve performance testing at the alternate lower maximum engine load with monitoring required at plus or minus 10 percent. The three RICE cannot operate at 100 percent load due to site-specific operations at the facility, and therefore cannot be tested at 100 percent plus or minus 10 percent operational capacity, as specified at 40 CFR 63.6620(b)(2). If operations change such that the maximum load of the engines exceeds the alternative lower maximum load, the AMP approval will be terminated, and retesting will be required to demonstrate compliance with NESHAP subpart ZZZZ at the higher engine load.

Abstract for [M150034]

Q: Does EPA agree that the backup power generator at the Freddie MAC facility in Carrollton, Texas is classified as an existing commercial emergency stationary Reciprocating Internal Combustion Engine (RICE) that is not subject to 40 CFR part 63 subpart ZZZZ?

A: Yes. EPA determines that the Freddie MAC facility is an area source with a commercial NAICS code, and the backup power generator meets the exemption provided at 40 CFR 63.6585(f)(2) applicable to emergency stationary RICE operated at an area source. This RICE, used solely for backup power generation, have not exceeded 50 hours for any activities during any one year period within the past two year period.

Abstract for [M150036]

Q: Will EPA provide a waiver to CertainTeed Corporation of the 60-day requirement under 40 CFR 63.9(c) to notify EPA in advance of the initial performance test at the GS Roofing facility in Portland, Oregon?

A: Yes. EPA is granting a waiver of the 60-day requirement for a notification prior to the initial performance test pursuant to 40 CFR 63.9(i) of the 40 CFR 63.9(c) requirement to enable testing during facility's highest volume period with the maximum ambient temperature, which is will occur in less than 60 days. This would enable the estimation of what the emissions are during a worst case scenario to test the limits of our system.

Abstract for [Z150002]

Q: Does 40 CFR part 61 subpart N apply to the Bullseye Glass Company's manufacture of colored art glass in its Portland, Oregon facility?

A: Yes. NESHAP subpart N applies to the company's manufacture of colored art glass. According to 40 CFR 61.160(a), 40 CFR part 61 subpart N does not apply to pot furnaces but rather to each glass melting furnace that uses commercial arsenic as a raw material. However, based on information provided by Bullseye Glass including descriptions, photos and diagrams, EPA determines that the vessels used by Bullseye do not meet the definition of pot furnaces because they are not sealed off from the furnace atmosphere so that there is potential for emissions to escape with the furnace exhaust.

Abstract for [Z150004]

Q: Are boilers/engines/marine equipment on a liquefied natural gas carrier (LNGC) at the proposed Aguirre Gasport located approximately 3 miles offshore of the Puerto Rico Electric Power Authority subject to NSPS and NESHAP standards when the LNGC will be converted into a Floating Storage and Regasification Unit (FSRU) to be permanently moored at the GasPort?

A: Yes. Based on the information provided, EPA determines that the FSRU is a stationary source because it utilizes boilers as the main propulsion devices instead of reciprocating internal combustion engines (RICE) and it will be permanently moored, except when there is a need to take the unit to safer water due to and special circumstances. Therefore, the affected equipment on the FSRU, except for non-reciprocating internal combustion engine (RICE), is subject to NSPS and NESHAP standards. All non-reciprocating RICE equipment on the FSRU is not a stationary sources because it falls under the definition of nonroad engines as they will be used on self-propelled equipment. Therefore, the NSPS and NESHAP do not apply to the nonroad RICE. However, the nonroad RICE must comply with the applicable nonroad engine standards in 40 CFR parts 89, 94, 1039, 1042, 1043, 1045, 1048, 1054, 1065, and 1068, if applicable. Specific questions on the requirements and applicability of a particular NSPS and NESHAP rules can be discussed separately on a case-by-case basis as the need arises.

Abstract for [Z150005]

Q: Are the 39 emergency stationary reciprocating internal combustion engines (RICE) at Los Alamos National Laboratory (LANL) area source facility subject to RICE NESHAP requirements?

A: No. EPA determines that the 39 emergency RICE at LANL are not subject to the RICE NESHAP because they are located at an area source that is classified as an “institutional” facility. The RICE rule excludes existing stationary emergency engines located at residential, commercial, or institutional facilities that are area sources of HAP. Note that the engines must meet the definition of “Emergency stationary RICE” in 40 CFR 63.6675.

Abstract for [Z150006]

Q: Northern Natural Gas based in Omaha, Nebraska asked that, under 40 CFR 63.6625(h), part 63 NESHAP subpart ZZZZ for spark ignition reciprocating internal combustion engines (RICE) regarding minimizing engine idle time, if an engine does not complete start up within the thirty minute time limit, are there any restrictions on initiating another startup of the engine and/or the time frame to complete the subsequent startup?

A: No. An engine does not need to be shut off if it does not complete startup within thirty minutes. However, any further activity after thirty minutes is considered part of normal operation. Multiple startups should be counted as separate events with a thirty minute time limit per event. If startups occur consecutively with short durations in between, they could be considered as one startup since startups are part of a single occasion where the engine is working up to normal operations.

Abstract for [Z150009]

Q1: May emergency Reciprocating Internal Combustion Engines (RICE) that currently do not qualify for the exclusion in 40 CFR 63.6585(f)(2) because they are contractually obligated to be available for more than 15 hours for the purposes specified at 40 CFR 63.6640(f)(2)(ii) and (iii) and (f)(4)(ii), later qualify for exclusion once those contracts expire, provided that the other conditions of 40 CFR 63.6585(f)(2) are met?

A1: If an emergency stationary RICE does not meet the conditions for the exclusion in 40 CFR 63.6585(f)(2) as of the compliance date, then it is subject to subpart ZZZZ at the date of compliance. However, if the engine's status subsequently changes to meet the conditions of 40 CFR 63.6585(f)(2) after the compliance date, the engine would no longer be subject to subpart ZZZZ.

Q2: Can emergency RICE located at area sources continue to participate in peak shaving programs for up to 50 hours per year until May 3, 2014 without losing their emergency engine status?

A2: An emergency stationary RICE located at an area source of HAP emissions can be used for peak shaving for up to 50 hours per year until May 3, 2014 if the engine is operated as part of a peak shaving (load management program) with the local distribution system operator and the power is provided only to the facility itself or to support the local distribution system. This is the case whether or not the engine will be retrofitted to comply with the subpart ZZZZ standards for non-emergency engines.

Q3: Do 40 CFR 63.6640(f)(4)(i) and (ii) address separate and distinct non-emergency situations, and does the “local reliability” exception set forth in 40 CFR 63.6640(f)(4)(ii) have no sunset provision?

A3: Yes. 40 CFR 63.6640(f)(4)(i) and (ii) are separate and distinct situations and there is no sunset provision for the operation specified in § 63.6640(f)(4)(ii). An emergency stationary RICE at an area source of HAP emissions can continue to operate for up to 50 hours per calendar year for the purpose specified in § 63.6640(f)(4)(ii) beyond May 3, 2014.

Q4: How does EPA interpret 40 CFR 63.6640(f)(4)(ii)(A), which requires that to qualify for the 50 hour exemption, the emergency RICE must be dispatched by the local balancing or local transmission and distribution system operator?

A4: If the local transmission and distribution system operator informs the facility that they will be cutting their power, which, in turn, causes the facility to engage its emergency stationary RICE, the engine would be considered dispatched by the local transmission and distribution system operator.

Abstract for [Z150010]

Q1: What date is used under NESHAP subpart ZZZZ to determine if engines located at Allison Transmission Indianapolis facility in Indiana, are “existing” or “new”?

A1: The rule uses the date that the engine commenced construction to determine if the engine is existing or new. The General Provisions to 40 CFR part 63 define both “construction” and “commenced” and those definitions are applied to the subpart.

Q2: Does NESHAP subpart ZZZZ apply to an engine that has been rebuilt, specifically where the engine core is reused, but components such as pistons, rings and bearings are reconditioned or replaced?

A2: A rebuilt engine would need to be evaluated to determine if reconstruction had occurred. The General Provisions to part 63 defines “reconstruction.”

Abstract for [Z150011]

Q: Are the emergency engines located at the NASA Langley Research Facility in Hampton, VA subject to NESHAP subpart ZZZZ for Reciprocating Internal Combustion Engines?

A: No. EPA determines that the emergency engines are located at a facility that is an area source and classified as an “institutional” facility. Therefore, under 40 CFR 63.6590(b)(3), emergency engines at the facility are exempt from requirements under NESHAP subpart ZZZZ.

Abstract for [1600004]

Q: Does EPA accept the industry coalition request to rescind a November 21, 2007, letter to the National Grain and Feed Association in which EPA stated that temporary storage facilities meet the definition of “permanent storage capacity” under 40 CFR part 60, subpart DD, NSPS for Grain Elevators (Subpart DD), and required it be included when determining applicability of Subpart DD for a particular facility?

A: Yes. The EPA is proposing revisions to Subpart DD and has also decided to re-evaluate the rationale for the November 21, 2007 letter. While the definition of “permanent storage capacity” in Subpart DD is broad, we are now aware that temporary storage facilities (TSFs) generally handle the grain less time throughout the year than other types of permanent storage facilities and may require different treatment. Also, while not dispositive as to the applicability of the rule to these units, we note that TSFs did not exist during the development of Subpart DD, and their processes and handling techniques were not specifically considered during the rulemaking process. For these reasons, EPA rescinds the November 21, 2007 letter. As a result, TSFs do not meet the definition of “permanent storage capacity” under Subpart DD and should not be included when determining applicability under Subpart DD for a particular facility.

Dated: February 25, 2016.
Betsy Smidinger,
Acting Director, Office of Compliance.

[FR Doc. 2016-07185 Filed 3-29-16; 8:45 am]

BILLING CODE 6560-50-P